DEPARTMENT OF HEALTH AND HUMAN SERVICES

National Institutes of Health

Extension of Effective Date of NIH Policy on the Use of a Single Institutional Review Board for Multi-Site Research

The National Institutes of Health (NIH) is extending the effective date of the NIH Policy on the Use of a Single Institutional Review Board for Multi-Site Research from September 25, 2017 to January 25, 2018. A copy of the NIH Policy was published in the Federal Register on June 21, 2016 (81 FR 40325). See https://www.gpo.gov/fdsys/pkg/FR-2016-06-21/pdf/2016-14513.pdf. Guidance and Frequently Asked Questions to assist in the implementation of the policy are available at https://osp.od.nih.gov/clinical-research/irb-review/.

For further information contact the NIH Office of Science Policy, Telephone: 301-496-9838, Email: SingleIRBPolicy@mail.nih.gov.

Dated: June 29, 2017.
Lawrence A. Tabak,
Deputy Director, National Institutes of Health.

[FR Doc. 2017-14190 Filed 7-5-17; 8:45 am]

BILLING CODE 4140-01-P